DEPARTMENT OF COMMERCE

[I.D. 121902C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: International Dolphin Conservation Program.

Form Number(s): None.

OMB Approval Number: 0648-0387.

Type of Request: Regular submission.

Burden Hours: 144.

Number of Respondents: 38.

Average Hours Per Response: 30 minutes for a vessel permit application; 10 minutes for an operator permit application; 30 minutes for a waiver request to transmit the Eastern Tropical Pacific without a permit; 10 minutes for a vessel departure notification, change in permit operator information, or modified net notification; 10 hours for an experimental fishing permit application; 10 hours for an experimental fishing permit report; 15 minutes for a dolphin mortality limit request; 10 minutes for an arrival notification; 60 minutes for a tuna tracking form; 10 minutes for a monthly tuna storage removal report; 60 minutes for a monthly tuna receiving report; and 30 minutes to produce reports upon request.

Needs and Uses: The National Oceanic and Atmospheric Administration (NOAA) collects information to implement the International Dolphin Conservation Program Act. The Act allows entry of yellowfin tuna into the United States, under specific conditions, from nations in the Program that would otherwise be under embargo. The Act also allows U.S. fishing vessels to participate in the yellowfin tuna fishery in the eastern tropical Pacific Ocean on terms equivalent with the vessels of other nations. NOAA collects information to allow tracking and verification of “dolphin safe” and “non-dolphin safe” tuna products from catch through the U.S. market.

Affected Public: Business or other for-profit organizations, individuals or households.

Frequency: On occasion, monthly, annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: December 19, 2002.
Gwellnar Banks,
Management Analyst, Office of the Chief Information Officer.

[FR Doc. 02-32620 Filed 12-26-02; 8:45 am]

BILLING CODE 3510-22-S